DEPARTMENT OF COMMERCE

National Oceanic and Atmospheric Administration

[RTID 0648-XD316]

New England Fishery Management Council; Public Meeting

AGENCY: National Marine Fisheries Service (NMFS), National Oceanic and Atmospheric Administration (NOAA), Commerce.

ACTION: Notice of public meeting.

SUMMARY: The New England Fishery Management Council (Council) is scheduling a public hybrid meeting of its Groundfish Committee to consider actions affecting New England fisheries in the exclusive economic zone (EEZ). Recommendations from this group will be brought to the full Council for formal consideration and action, if appropriate.

DATES: This hybrid meeting will be held on September 22, 2023, at 9:30 a.m.

ADDRESSES:

Meeting address: This meeting will be held at the DoubleTree by Hilton, 50 Ferncroft Road, Danvers, MA 01923; telephone: (978) 777-2500.

Webinar registration URL information: https://attendee.gotowebinar.com/register/5463173544525981530.

Council address: New England Fishery Management Council, 50 Water Street, Mill 2, Newburyport, MA 01950.

FOR FURTHER INFORMATION CONTACT: Cate O'Keefe, Executive Director, New England Fishery Management Council; telephone: (978) 465-0492.

SUPPLEMENTARY INFORMATION:

Agenda

The Groundfish Committee will meet to discuss recommendations from the Recreational Advisory Panel and Groundfish Advisory Panel. They will discuss Atlantic Cod Transition Plan—a summary of fishery data from the Research Track stock assessment for Atlantic cod as well as Framework Adjustment 66/Specifications and Management Measures—an update on the development of draft alternatives and a report from the Transboundary Management Guidance Committee (TMGC). The Committee will discuss Framework Adjustment 68/Acceptable Biological Catches (ABC) Control Rules—the findings from the facilitated meeting and Groundfish Committee motions from meeting held on August 17, 2023 as well as 2024 Council Priorities—possible groundfish priorities for the Council to consider for 2024, and provide recommendations to the Council, as appropriate. Other business will be discussed as necessary.

Although non-emergency issues not contained on the agenda may come before this Council for discussion, those issues may not be the subject of formal action during this meeting. Council action will be restricted to those issues specifically listed in this notice and any issues arising after publication of this notice that require emergency action under section 305(c) of the Magnuson-Stevens Act, provided the public has been notified of the Council's intent to take final action to address the emergency. The public also should be aware that the meeting will be recorded. Consistent with 16 U.S.C. 1852, a copy of the recording is available upon request.

Special Accommodations

This meeting is physically accessible to people with disabilities. Requests for sign language interpretation or other auxiliary aids should be directed to Cate O'Keefe, Executive Director, at (978) 465-0492, at least 5 days prior to the meeting date.

Authority: 16 U.S.C. 1801 et seq.

Dated: August 31, 2023.
Rey Israel Marquez,
Acting Deputy Director, Office of Sustainable Fisheries, National Marine Fisheries Service.

[FR Doc. 2023-19199 Filed 9-5-23; 8:45 am]

BILLING CODE 3510-22-P